DEPARTMENT OF EDUCATION

RIN 1820 ZA21

National Institute on Disability and Rehabilitation Research

AGENCY: Office of Special Education and Rehabilitative Services, Department of Education.

ACTION: Notice of proposed priorities.

SUMMARY: The Assistant Secretary for Special Education and Rehabilitative Services proposes priorities for one or more development projects under the Disability and Rehabilitation Research Projects (DRRP) Program under the National Institute on Disability and Rehabilitation Research (NIDRR). The Assistant Secretary may use these priorities for competitions in fiscal year (FY) 2003 and later years. We take this action to focus research attention on identified national needs. We intend these priorities to improve rehabilitation services and outcomes for individuals with disabilities.

DATES: We must receive your comments on or before June 9, 2003.

ADDRESSES: Address all comments about these proposed priorities to Donna Nangle, U.S. Department of Education, 400 Maryland Avenue, SW., room 3412, Switzer Building, Washington, DC 20202-2645. If you prefer to send your comments through the Internet, use the following address: donna.nangle@ed.gov.

FOR FURTHER INFORMATION CONTACT: Donna Nangle. Telephone: (202) 205-5880.

If you use a telecommunications device for the deaf (TDD), you may call the TDD number at (202) 205-4475 or via the Internet: donna.nangle@ed.gov.

Individuals with disabilities may obtain this document in an alternative format (e.g., Braille, large print, audiotape, or computer diskette) on request to the contact person listed under FOR FURTHER INFORMATION CONTACT.

SUPPLEMENTARY INFORMATION:

Invitation To Comment

We invite you to submit comments regarding these proposed priorities.

We invite you to assist us in complying with the specific requirements of Executive Order 12866 and its overall requirement of reducing regulatory burden that might result from these proposed priorities. Please let us know of any further opportunities we should take to reduce potential costs or increase potential benefits while preserving the effective and efficient administration of the program.

During and after the comment period, you may inspect all public comments about these priorities in Room 3412, Switzer Building, 330 C Street SW., Washington, DC, between the hours of 8:30 a.m. and 4:00 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for these proposed priorities. If you want to schedule an appointment for this type of aid, please contact the person listed under FOR FURTHER INFORMATION CONTACT.

We will announce the final priorities in a notice in the Federal Register. We will determine the final priorities after considering responses to this notice and other information available to the Department. This notice does not preclude us from proposing or funding additional priorities, subject to meeting applicable rulemaking requirements.

Note: This notice does not solicit applications. In any year in which we choose to use these proposed priorities, we invite applications through a notice published in the Federal Register. When inviting applications we designate each priority as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the priority (34 CFR 75.105(c)(2)(i)); or (2) selecting an application that meets the competitive priority over an application of comparable merit that does not meet the competitive priority (34 CFR 75.105(c)(2)(ii)).

Invitational priority: Under an invitational priority, we are particularly interested in applications that meet the invitational priority. However, we do not give an application that meets the priority a competitive or absolute preference over other applications (34 CFR 75.105(c)(1)).

Note: NIDRR supports the goals of President Bush's New Freedom Initiative (NFI). The NFI can be accessed on the Internet at the following site: http://www.whitehouse.gov/news/freedominitiative/freedominitiative.html.

The proposed priorities are in concert with NIDRR's Long-Range Plan (the Plan). The Plan is comprehensive and integrates many issues relating to disability and rehabilitation research topics. While applicants will find many sections throughout the Plan that support potential research to be conducted under these proposed priorities, a specific reference is included for each topic presented in this notice. The Plan can be accessed on the Internet at the following site: http://www.ed.gov/offices/OSERS/NIDRR/Products.

Through the implementation of the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

Disability and Rehabilitation Research Projects (DRRP) Program

The purpose of the DRRP Program is to plan and conduct research, demonstration projects, training, and related activities that help to maximize the full inclusion and integration of individuals with disabilities into society and to improve the effectiveness of services authorized under the Rehabilitation Act of 1973, as amended (the Act).

An applicant for assistance under this program must demonstrate in its application how it will address, in whole or in part, the needs of individuals with disabilities from minority backgrounds (34 CFR 350.40(a)). The approaches an applicant may take to meet this requirement are found in 34 CFR 350.40(b).

Under the DRRP program, we define a development activity as the use of knowledge and understanding gained from research to create materials, devices, systems, or methods beneficial to the target population, including design and development of prototypes and processes.

Priorities—Development Projects for Stabilizing and Improving Lives of Persons With Disabilities

Background

On May 17, 2002, we published in the Federal Register (67 FR 35417-35419) a notice inviting written comments suggesting priorities for research centers and projects administered by NIDRR under title II of the Act. Individuals were encouraged to suggest research centers and projects consistent with the Plan and that support the NFI.

We received many suggestions. The purpose of this notice of proposed priorities is to present two development topics from public suggestions. These topics are for development activities under the DRRP program.

We propose priorities for development that will alleviate problems and challenges faced by people with disabilities as they seek improved life outcomes. These priorities share the goal of developing new materials, devices, systems, or methods to improve the inclusion and participation of individuals with disabilities in their families and communities. We propose two topics with the knowledge that we may not issue final priorities nor make awards in both areas.

Letters of Intent

Due to the open nature of this competition, NIDRR is requiring all potential applicants to submit a Letter of Intent (LOI). Each LOI must be limited to a maximum of four pages and must include the following information: (1) The title of the proposed DRRP, the name of the host institution, the name of the Principal Investigator (PI), and the names of partner institutions and entities; (2) a brief statement of the vision, goals, and objectives of the proposed DRRP and a description of its research and development activities at a sufficient level of detail to allow potential peer reviewers to be selected; (3) a list of proposed DRRP staff including the center Director and key personnel; and (4) a list of individuals whose selection as a peer reviewer might constitute a conflict of interest due to involvement in proposal development, selection as an advisory board member, co-PI relationships, etc.

Submission of a LOI is a prerequisite for eligibility to submit an application. The signed, original LOI, or with prior approval an e-mail or facsimile copy, must be received by NIDRR no later than June 9, 2003. Applicants that submit e-mail or facsimile copies must follow up by sending to NIDRR the signed original copy no later than one week after the date the e-mail or facsimile copy was sent. All communications pertaining to the LOI must be sent to: Donna Nangle, U.S. Department of Education, 400 Maryland Avenue, SW., room 3412, Switzer Building, Washington, DC 20202-2645. For further information regarding the LOI requirement, contact Donna Nangle at (202) 205-5880 or by e-mail at: Donna.Nangle@ed.gov.

Priorities

The Assistant Secretary proposes to fund one or more DRRPs that will focus on stabilizing and improving lives of persons with disabilities. In carrying out the purposes of the priority, projects awarded under each of the topics, in consultation with the NIDRR project officer, must:

• Coordinate and establish partnerships, as appropriate, with other academic institutions and organizations that are relevant to the project's proposed activities;

• Demonstrate use of culturally appropriate data collection, evaluation, dissemination, training, and development methodologies and significant knowledge of the needs of individuals with disabilities from traditionally underserved populations;

• Involve, as appropriate, individuals with disabilities or their family members, or both in all aspects of development as well as in design of clinical services and dissemination activities;

• Demonstrate how the project will yield measurable results for people with disabilities;

• Identify specific performance targets and propose outcome indicators, along with time lines to reach these targets; and

• Disseminate findings on products and technologies to appropriate audiences, including information on best practices, where applicable.

An applicant must propose development activities and dissemination of findings under one of the following topics:

(a) Voting Access and Privacy. This project must develop technologies, strategies, and approaches that can be used to improve and expand access, including physical accessibility, to voting accurately, independently, and privately for all citizens with disabilities. Voting is a citizen's most basic right. Yet many individuals with disabilities find it difficult, if not impossible, to vote without a poll worker's or another individual's assistance. Development products may address, but are not limited to, voting apparatus, accommodations information, training materials (i.e., books, guidelines, electronic materials) for public elections officials and citizens, and cost analysis and evaluation of products and technologies to enhance voting access for citizens with disabilities. The reference for this topic can be found in the Plan, Chapter 5, Technology for Access and Function: Research to Improve Accessibility of Telecommunications and Information Technology.

(b) Technologies for Families and Caregivers. This project must develop technologies, strategies, and approaches that will facilitate and improve the continuum of activities and reduce the demands involved in care giving for individuals with disabilities. The upsurge of programs such as “Long-Term Care” and “Home-Health Care” has stimulated the need for tools and strategies that enable individuals with disabilities to live longer and more productively in their communities. New and improved technologies for care giving will help implement the Supreme Court's Olmstead v. L.C. decision. Development products may address, but are not limited to, evaluation and assessment of existing technology solutions, accommodations information, training materials (i.e., books, guidelines, electronic materials) for public officials and citizens, and cost analysis and evaluation of products and technologies to enhance community integration, personal assistance services, and independent living for citizens with disabilities. The reference for this topic can be found in the Plan, Chapter 5, Technology for Access and Function: Assistive Technology for Individuals.

Executive Order 12866

This notice of proposed priorities has been reviewed in accordance with Executive Order 12866. Under the terms of the order, we have assessed the potential costs and benefits of this regulatory action.

The potential costs associated with the notice of proposed priorities are those resulting from statutory requirements and those we have determined as necessary for administering this program effectively and efficiently.

In assessing the potential costs and benefits—both quantitative and qualitative—of this notice of proposed priorities, we have determined that the benefits of the proposed priorities justify the costs.

Summary of potential costs and benefits: The potential cost associated with these proposed priorities is minimal while the benefits are significant. Grantees may anticipate costs associated with completing the application process in terms of staff time, copying, and mailing or delivery. The use of e-Application technology reduces mailing and copying costs significantly.

The benefits of the DRRP Program have been well established over the years that similar projects have been completed. These proposed priorities will generate new knowledge through development to focus on stabilizing and improving lives of persons with disabilities.

The benefit of these proposed priorities and proposed applications and project requirements will be the establishment of new DRRP projects that generate, disseminate, and promote the use of new information that will improve the options for disable individuals to perform regular activities in the community.

Applicable Program Regulations: 34 CFR part 350.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is published in the Federal Register. Free Internet access to the official edition of the Federal Register and the Code of Federal Regulations is available on GPO Access at: http://www.access.gpo.gov/nara/index.html.

(Catalog of Federal Domestic Assistance Number 84.133A, Disability Rehabilitation Research Project)

Program Authority: 29 U.S.C. 762(g) and 764(a).

Dated: May 6, 2003.
Robert H. Pasternack,
Assistant Secretary for Special Education and Rehabilitative Services.

[FR Doc. 03-11624 Filed 5-8-03; 8:45 am]

BILLING CODE 4000-01-P